DEPARTMENT OF DEFENSE

Office of the Secretary

Defense Advisory Committee on Investigation, Prosecution, and Defense of Sexual Assault in the Armed Forces; Notice of Federal Advisory Committee Meeting

AGENCY: General Counsel of the Department of Defense, Department of Defense (DoD).

ACTION: Notice of Federal Advisory Committee meeting.

SUMMARY: The DoD is publishing this notice to announce that the following Federal Advisory Committee meeting of the Defense Advisory Committee on Investigation, Prosecution, and Defense of Sexual Assault in the Armed Forces will take place.

DATES: Open to the public, Wednesday, September 21, 2022, from 8:30 a.m. to 4:45 p.m. EST.

ADDRESSES: Doubletree Hotel, Pentagon City, 300 Army Navy Drive, Arlington, Virginia 22202.

FOR FURTHER INFORMATION CONTACT: Dwight Sullivan, 703-695-1055 (Voice), 703-693-3903 (Facsimile), dwight.h.sullivan.civ@mail.mil (Email). Mailing address is DACIPAD, One Liberty Center, 875 N. Randolph Street, Suite 150, Arlington, Virginia 22203. Website: http://dacipad.whs.mil/. The most up-to-date changes to the meeting agenda can be found on the website.

SUPPLEMENTARY INFORMATION: Due to circumstances beyond the control of the Department of Defense and the Designated Federal Officer, the Defense Advisory Committee on Investigation, Prosecution, and Defense of Sexual Assault in the Armed Forces was unable to provide public notification required by 41 CFR 102-3.150(a) concerning its September 21, 2022 meeting of the Defense Advisory Committee on Investigation, Prosecution, and Defense of Sexual Assault in the Armed Forces. Accordingly, the Advisory Committee Management Officer for the Department of Defense, pursuant to 41 CFR 102-3.150(b), waives the 15-calendar day notification requirement. This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the twenty-fourth public meeting held by the DAC-IPAD. The Committee will receive a courts-martial observation briefing that was attended by a Committee member, followed by a briefing related to two recent Advanced Litigation Courses that were attended by some members of the Committee, followed by a review of upcoming sexual assault related courts-martial currently docketed by the Military Departments. During the last two sessions of the morning, the Committee will receive an overview of the appellate process, followed by a briefing of the FY 2021 appellate case data project. After the lunch break, the Committee will hear testimony from Service representatives from their Government and Defense Appellate Divisions. Finally, the Committee will have a discussion regarding appellate practice issues followed by public comment. The meeting will conclude with a review of the day and a preview of the next public meeting.

Agenda: Wednesday, September 21, 2021: 8:30 a.m.-8:45 a.m. Public Meeting Begins—Welcome and Introduction; 8:45 a.m.-9:20 a.m. Court-Martial Observation Briefing; 9:20 a.m.-9:55 a.m. Advanced Litigation Course Observation Briefing; 9:55 a.m.-10:00 a.m. Upcoming Courts-Martial & Training Observation Opportunities; 10:00 a.m.-10:20 a.m. Break; 10:20 a.m.-11:00 a.m. Uniform Code of Military Justice Appellate Process Overview; 11:00 a.m.-11:50 a.m. FY 2021 Appellate Case Data; 11:50 a.m.-12:45 p.m. Lunch; 12:45 p.m.-2:00 p.m. Government Appellate Division Current Practice & Perspectives; 2:00 p.m.-2:15 p.m. Break; 2:15 p.m.-3:30 p.m. Defense Appellate Division Current Practice & Perspectives; 3:30 p.m.-3:45 p.m. Break; 3:45 p.m.-4:15 p.m. Appellate Practice Issues and Committee Guidance; 4:15 p.m.-4:30 p.m. Public Comment; 4:30 p.m.-4:45 p.m. Meeting Wrap-up; Subcommittee Update; Preview Next Meeting; 4:45 p.m. Public Meeting Adjourned.

Meeting Accessibility: Pursuant to 41 CFR 102-3.140 and section 10(a)(3) of the FACA, the public or interested organizations may submit written comments to the DAC-IPAD about its mission and topics pertaining to this public session. Written comments must be received by the DAC-IPAD at least five (5) business days prior to the meeting date so that they may be made available to the DAC-IPAD members for their consideration prior to the meeting. Written comments should be submitted via email to the DAC-IPAD at whs.pentagon.em.mbx.dacipad@mail.mil in the following formats: Adobe Acrobat or Microsoft Word. Please note that since the DAC-IPAD operates under the provisions of the FACA, all written comments will be treated as public documents and will be made available for public inspection. Oral statements from the public will be permitted, though the number and length of such oral statements may be limited based on the time available and the number of such requests. Oral presentations by members of the public will be permitted from 4:15 p.m.-4:30 p.m. EST on September 21, 2022.

Written Statements: Pursuant to 41 CFR 102-3.140 and section 10(a)(3) of the FACA, the public or interested organizations may submit written comments to the DAC-IPAD about its mission and topics pertaining to this public session. Written comments must be received by the DAC-IPAD at least five (5) business days prior to the meeting date so that they may be made available to the DAC-IPAD members for their consideration prior to the meeting. Written comments should be submitted via email to the DAC-IPAD at whs.pentagon.em.mbx.dacipad@mail.mil in the following formats: Adobe Acrobat or Microsoft Word. Please note that since the DAC-IPAD operates under the provisions of the FACA, all written comments will be treated as public documents and will be made available for public inspection. Oral statements from the public will be permitted, though the number and length of such oral statements may be limited based on the time available and the number of such requests. Oral presentations by members of the public will be permitted from 4:15 p.m.-4:30 p.m. EST on September 21, 2022.

Dated: September 19, 2022.
Kayyonne T. Marston,
Alternate OSD Federal Register Liaison Officer, Department of Defense.

[FR Doc. 2022-20533 Filed 9-21-22; 8:45 am]

BILLING CODE 5001-06-P